DEPARTMENT OF STATE

[Public Notice 4452]

Bureau of Educational and Cultural Affairs Request for Grant Proposals (RFGPs): FY2004 Educational Partnerships Program

SUMMARY: The Office of Global Educational Programs of the Bureau of Educational and Cultural Affairs announces an open competition for the Educational Partnerships Program. Accredited U.S. post-secondary educational institutions meeting the provisions described in Internal Revenue Code section 26 U.S.C. 501(c)(3) may submit proposals to support the Program's goals of encouraging mutual understanding, educational reform, economic development, and civil society through educational cooperation in higher education with targeted countries and regions that are of high priority to the Department of State.

Program Overview

To encourage mutual understanding, educational reform, economic development, and civil society in the targeted countries, the Educational Partnerships Program enables U.S. colleges and universities and foreign counterpart institutions to pursue objectives cooperatively through exchange visits of faculty, administrators, highly advanced foreign students, and advanced U.S. graduate students who can demonstrate the ability to work independently. The Educational Partnerships Program is not designed to support study abroad activities for undergraduate students or less advanced graduate students.

Applicants are strongly encouraged to discuss their project ideas during the proposal development process with the relevant Bureau program officer for guidance. (Please see “For further information” section for contact details.)

U.S. and foreign colleges and universities that have hosted, enrolled, or employed State Department sponsored grantees or alumni as professors, students, or administrators are especially encouraged to develop proposals that build on the achievements of these individual grantees and extend their impact.

A separate Request for Grant Proposals under the Freedom Support Educational Partnerships Program with Eurasia has been issued for Fiscal Year 2004 and is accessible on the State Department Web site at http://exchanges.state.gov/education/rfgps. For information about the Freedom Support Educational Partnerships Program with Eurasia, which supports partnerships with countries previously recognized as belonging to the Soviet Union, contact the Humphrey Fellowships and Institutional Linkages Branch, Office of Global Educational Programs (ECA/A/S/U), Room 349, U.S. Department of State, State Annex 44, 301 4th Street, SW., Washington, DC 20547, phone: (202) 619-5289, fax: (202) 401-1433.

Additional RFGPs for educational partnerships to be funded in FY2004 with specific world regions may be published later this year or early in 2004 and will be accessible on the State Department Web site at http://exchanges.state.gov/education/rfgps.

Foreign Country and Location Eligibility

The eligibility of foreign countries and locations is limited and varies from year to year. Proposals to increase the understanding of the United States in countries and societies with significant Muslim populations are especially encouraged, as are proposals to increase the understanding of these countries and societies in the United States. Except as noted below for the Western Hemisphere and for North Africa and the Middle East, a proposal may not include more than one of the foreign countries or locations listed below.

(1) East Asia and the Pacific

Eligible for FY 2004: Indonesia, Malaysia, Philippines.

We encourage projects that will increase the U.S. understanding of cultures and societies with significant Muslim populations in eligible East Asian countries, and the understanding of U.S. culture and society in East Asia. We also encourage projects that will encourage good governance and responsible administrative practices, and that will provide wider access to education, strengthen civil society, or help to create more transparent, market-oriented economies.

(2) North Africa and the Middle East

Eligible for FY 2004: Algeria, Jordan, Kuwait, Lebanon, Morocco, Oman, Saudi Arabia, Syria, Tunisia, United Arab Emirates. We encourage projects that will increase the U.S. understanding of Muslim cultures and societies in North Africa and the Middle East, and the understanding of U.S. culture and society in the region. We also encourage projects that will strengthen civil society in eligible foreign countries, that will support educational reform through curriculum development or teacher training, or that will encourage economic development or responsible, transparent administration in the public sector. Tunisia is eligible for special funding in FY2004 for projects supporting modernization in higher education or the economy (maximum award $195,000). Proposals for North Africa and the Middle East may include more than one eligible country.

(3) Sub-Saharan Africa

Eligible for FY2004: Botswana, Ethiopia, Nigeria, Senegal,

Tanzania, Uganda. We encourage projects that will increase the U.S. understanding of Muslim cultures and societies in sub-Saharan Africa, and the African understanding of U.S. culture and society. We also encourage projects that will strengthen the role of African institutions of higher education in an eligible country's development and that will encourage increased involvement of African universities with other local and international institutions that contribute to African social, political or economic development.

(4) The Western Hemisphere

Eligible for FY 2004: Barbados, Dominican Republic, Haiti,

Jamaica, Trinidad and Tobago. We encourage projects for the Caribbean basin that will strengthen civil society or effective administration in the public or the private sectors, with special interest in economic development, environmental studies, educational reform and teacher training, journalism, and media studies. Proposals for the Caribbean basin may include more than one eligible country.

(5) South Asia

Eligible for FY 2004: Afghanistan, Bangladesh, India, and

Pakistan. We encourage projects that will increase the U.S. understanding of South Asian cultures and societies with significant Muslim populations, and the South Asian understanding of U.S. culture and society. We also encourage projects that will promote the development of good governance and responsible administrative practices in either the public sector or the private sector in an eligible country; that will provide wider access to education; or that will address issues of social or religious diversity.

(6) Europe and Eurasia

Eligible for FY 2004: Bosnia and Herzegovina, Serbia and Montenegro, Turkey, and the United Kingdom as noted below. In addition, please consult the Request for Grant Proposals for the FY2004 Freedom Support Educational Partnerships Program with Eurasia.

Eligible for special funding in FY 2004 in designated fields and locations are Bosnia and Herzegovina (comparative religious studies or American Studies, maximum request $195,000); Montenegro (university administration or social sciences curriculum reform, maximum request $150,000); and Serbia (journalism curriculum reform, maximum request $195,000).

For Turkey, we encourage proposals in the field of comparative law with a focus on Muslim and Western legal traditions and with particular reference to the approaches to human rights and fair judicial procedures in these traditions.

For the United Kingdom, eligibility is limited to projects that will study inter-ethnic or inter-religious relations and that promote cooperation with immigrant and minority populations in the United Kingdom.

Project Design

The project should be designed to focus on specific institutional objectives that will support the Program's goals of encouraging mutual understanding, educational reform, economic development, and civil society with special reference to the regional needs and U.S. foreign policy priorities described in this document under the heading “Foreign Country and Location Eligibility.” The design should include a series of exchange visits that will lead to the achievement of the project's objectives within a three-year period, and should describe a process for evaluating the results of project implementation. The design should also provide for the effective administration of the project.

Statement of Need

To justify a request for support, proposals should demonstrate the need of the participating institutions for the project that they are proposing. Proposals should explain how each participating department and institution will utilize the project to address the institution's needs as well as larger needs in its country and society.

If the proposed partnership would occur within the context of a previous or ongoing project, the proposal should outline distinct objectives and outcomes for the new project and should explain how new Bureau funding would build upon the previously funded activities. Proposals should describe the amounts and sources of support for the earlier projects as well as the results to date.

Project Objectives

Proposals should explain in detail how the project will enable the participating institutions to achieve specific institutional or departmental changes that will support the goals of the Educational Partnerships Program. Proposals should outline a series of activities for meeting specific objectives for each participating institution and society. The benefits of the project to each of the participating institutions may differ significantly in nature and scope based on their respective needs and resource bases. Project objectives may include the development or revision of courses, curricula, and programs of study and outreach at participating institutions to support mutual understanding, educational reform, economic development, or civil society. Proposals may outline the parameters and possible content of new courses; new teaching specializations or methodologies; new or revised curricula; and new programs for outreach to educators, professional groups, or the general public. Proposals may also describe strategies to promote administrative reform through faculty or staff development.

In most cases a limited number of related thematic objectives at each institution will be more feasible to achieve than a larger number of unrelated objectives.

The following fields are eligible if they support the foreign policy goals previously described under the heading “Foreign Country and Location Eligibility”:

—The social, political, and economic sciences;

—business administration;

—journalism and media studies;

—law;

—public administration and public policy analysis;

—library science;

—education, continuing education, and educational administration, including Teaching English as a Foreign Language;

—religious studies;

—health policy and administration;

—environmental studies.

Projects in the physical, technical, and medical sciences are not eligible except when pertaining directly to health policy and administration.

Exchange Activities and Project Implementation

Proposals should demonstrate that a project's objectives are feasible to achieve within a three-year period through a series of exchange activities that take into account prevailing conditions in the participating countries. For example, projects focusing on curricular reform should describe the existing curriculum and the courses targeted for revision, and should explain how exchange activities will result in the restructuring of the current content to incorporate the new academic themes. The proposal should describe the topics and content of any new courses or educational materials that will be developed and introduced, and should identify those persons who will be responsible for developing the new courses and for teaching them. If the project proposes to develop a new degree or certificate program, the proposal should outline the steps being taken to secure approval for the new program from the institution itself and from all relevant educational authorities. The proposal should also describe the composition and size of the student population and any other group that will benefit from the innovations to be introduced through the project.

Except for translators, interpreters, and outside evaluators, participation in the exchange visits is limited to teachers, researchers, advanced foreign students, advanced U.S. graduate students, and administrators from the participating institution(s). Advanced graduate students at the U.S. institution(s) are eligible to participate as visiting instructors at a foreign partner institution. Advanced foreign students are eligible to participate in exchange visits if they have teaching or research responsibilities or are preparing for such responsibilities. Applicants planning to submit proposals with advanced foreign students or advanced U.S. graduate students as exchange participants are encouraged to contact the program office to discuss the rationale for their participation.

Foreign participants must be both qualified to receive U.S. J-1 visas and willing to travel to the U.S. under the provisions of a J-1 visa during the exchange visits funded by this Program. Foreign participants may not be U.S. citizens.

Material and Technical Support for Exchange Activities

To increase the feasibility and impact of the project's exchange activities, a proposal may include a request for funding for educational materials (including books and periodical subscriptions) and technical components (including the establishment or maintenance of Internet and/or electronic mail facilities and of interactive technology-based distance-learning programs). The funding requested for educational and technical materials should supplement the project's exchange activities by reinforcing their impact on project objectives. Proposals with distance learning components should describe pertinent course delivery methods, audiences, and technical requirements. Proposals that include the introduction of Internet, electronic mail, and other interactive technologies for long-term use in countries where these technologies are not easily maintained or financed should discuss how the foreign partner institution will cover their costs after the project ends.

Applicants may propose other project components not specifically mentioned in this solicitation document if the activities will increase the impact on project objectives.

Project Duration

Pending the availability of funds, grant activities should begin on or about September 1, 2004 for a three-year period. Grant activities are expected to be completed within the three-year timeframe.

Project Evaluation

Proposals should describe and budget for a methodology for project evaluation. Institutions that are awarded partnership grants must formally submit periodic reports to the Bureau on the project's activities in relation to its objectives. The formal evaluation reports should include an assessment of the current status of each participating department's and institution's needs at the time of program inception with specific reference to project objectives; formative evaluation to allow for mid-course revisions in the implementation strategy; and, at the conclusion of the project, summative evaluation of the degree to which the project's objectives have been achieved. The proposal should discuss how the issues raised throughout the formative evaluation process will be assessed and addressed. The summative evaluation should describe the project's influence on the participating institutions and their surrounding communities or societies. The summative evaluation should also include recommendations about how to build upon project achievements. Evaluative observations by external consultants with appropriate subject, cultural, and regional expertise are especially encouraged. Copies of evaluation reports must be provided to the Department of State.

In addition to the formally scheduled reports, the evaluation strategy should include a mechanism for promptly providing the Bureau with information that will equip the Department of State to summarize and illustrate project activities and achievements as they occur.

Project Administration

Proposals should explain how project activities will be administered both in the U.S. and overseas in ways that will ensure that the project maintains a focus on its objectives while adjusting to changing conditions, assessments, and opportunities.

Institutional Commitment

A U.S. college or university must submit the proposal and must serve as the grant recipient with responsibility for project coordination. Proposals must include letters of commitment from all institutional partners including the institution submitting the proposal. An official who is authorized to commit institutional resources to the project must sign the letter of support. The letters of support as well as the proposal as a whole should demonstrate that the participating institutions understand one another and are committed to mutual support and cooperation in project implementation.

Eligible Institutions

The lead institution and grant recipient in the project must be an accredited U.S. college or university.

Applications from community colleges, institutions serving significant minority populations, undergraduate liberal arts colleges, comprehensive universities, research universities, and combinations of these institutions are eligible. The lead U.S. organization in a consortium or other combination of cooperating institutions is responsible for submitting the application. Each application must document the lead organization's authority to represent all U.S. cooperating partners. Secondary U.S. partners may include governmental or non-governmental organizations at the federal, state, or local levels as well as non-profit service, community, and professional organizations.

Foreign institutional partners may be recognized institutions of post-secondary education, state-supported universities, independent universities, research institutes, relevant educational authorities, and other public or private non-profit organizations with project-related educational missions.

Costs and Cost-Sharing

The commitment of all partner institutions to the proposed project should be reflected in the cost-sharing which they offer in the context of their respective institutional capacities. Although the contributions offered by institutions with relatively few resources may be less than those offered by applicants with greater resources, all participating institutions should identify appropriate contributions. These costs may include estimated in-kind contributions. U.S. institutions are encouraged to contribute to the international travel expenses of U.S. participants as part of their institutional cost-share. Proposed cost-sharing will be considered an important indicator of the applicant institution's commitment to the project.

The Bureau's support may be used to assist with the costs of the exchange visits as well as the costs of the administration of the project by the U.S. grantee institution, as explained in additional detail in the associated document entitled “Project Objectives, Goals, and Implementation” (POGI). U.S. administrative costs that may be covered by the Bureau, with certain limitations, include administrative salaries, faculty replacement costs, other direct administrative costs, and partial indirect costs. The cost of administering the project at the foreign partner organization(s) is also eligible for the Bureau's support. Although each grant will be awarded to a single U.S. institutional partner, the proposal should make adequate provision for the administrative costs of all partner institutions, including the foreign partner(s), especially if a foreign partner has relatively few resources. See the POGI for additional information on the restrictions and maximum amounts that apply to certain budget categories.

Pending the availability of FY 2004 funds, the maximum award in the FY 2004 competition will be $150,000 for a three-year period with the exceptions noted under the heading “Foreign Country and Location Eligibility.” Requests for amounts smaller than the maximum are eligible. Budgets and budget notes should carefully justify the amounts requested. Grants awarded to organizations with less than four years of experience in conducting international exchange programs will be limited to $60,000.

The response to Requests for Grant Proposals for the support of partnerships in higher education has been unusually strong in recent years. In FY 2002, 99 eligible proposals were submitted to the Educational Partnerships Program, and 17 awards were made. Special FY 2004 funding with higher grant maximums and more favorable grant-to-application ratios is expected for projects in Bosnia and Herzegovina, Serbia and Montenegro, and Tunisia as noted previously under the heading “Foreign Country and Location Eligibility.”

Ineligibility

A proposal will be deemed technically ineligible for consideration if:

(1) It does not fully adhere to the guidelines established in this document and in the Solicitation Package;

(2) It is not received by the deadline;

(3) It is not submitted by the U.S. partner;

(4) The U.S. applicant organization is ineligible;

(5) The foreign country or geographic location is ineligible.

Projects must conform with the Bureau's requirements and guidelines outlined in the solicitation package for this RFGP. Proposals that do not follow RFGP requirements and the guidelines appearing in the POGI and PSI will be excluded from consideration due to technical ineligibility.

Announcement Title and Number

All correspondence with the Bureau concerning this RFGP should reference the above title and number ECA/A/S/U-04-03.

For Further Information

For further information, contact the Humphrey Fellowships and Institutional Linkages Branch; Office of Global Educational Programs; Bureau of Educational and Cultural Affairs; ECA/A/S/U, Room 349; U.S. Department of State; SA-44, 301 4th Street, SW.; Washington, DC 20547; phone: (202) 619-5289, fax: (202) 401-1433. Prospective applicants are strongly encouraged to communicate about their proposals with one of the following regional program officers: for North Africa and the Middle East, Michelle Johnson, phone: (202) 205-8434, (e-mail johnsonmi@pd.state.gov); for the United Kingdom, Paul Schelp, phone: (202) 205-8266 (e-mail: pschelp@pd.state.gov); for the Balkans and the Western Hemisphere, Maria Urbina, phone: (202) 260-6797 (e-mail murbina@pd.state.gov); for Turkey, Jonathan Cebra, phone: (202) 205-8379 (e-mail jcebra@pd.state.gov); and for sub-Saharan Africa, East Asia, and South Asia, Joan Zaffarano, phone: (202) 401-1323 (e-mail jzaffara@pd.state.gov).

Please read the complete Solicitation Package before sending inquiries or submitting proposals. Once the RFGP deadline has passed, Bureau staff may not discuss this competition with applicants until the proposal review process has been completed.

To Download a Solicitation Package Via Internet

The Solicitation Package includes more detailed award criteria, all application forms, and guidelines for preparing proposals, including specific criteria for preparation of the proposal budget. The Solicitation Package includes the POGI and the Proposal Submission Instructions (PSI). The entire Solicitation Package may be downloaded from the Bureau's Web site at: http://exchanges.state.gov/education/rfgps. Please read all information before downloading.

Deadline for Proposals

All proposal copies must be received at the Bureau of Educational and Cultural Affairs by 5 p.m. Washington, DC, time on Friday, December 12, 2003. Faxed documents are not acceptable, with the exception of letters of endorsement that are submitted as part of the proposal. Documents postmarked with the due date but received on a later date will not be accepted. Applicants must ensure that their proposals are received by the above deadline.

Applicants must follow all instructions in the Solicitation Package. The original and 10 copies of the complete application should be sent by the project's lead U.S. college or university to: U.S. Department of State, SA-44, Bureau of Educational and Cultural Affairs, Ref.: ECA/A/S/U-04-03, Program Management, ECA/EX/PM, Room 534, 301 4th Street, SW., Washington, DC 20547.

Submission of Electronic Copies

No later than one week after the deadline for receipt of the grant proposal, applicants must also submit the “Proposal Title Page” described in the Project Objectives, Goals, and Implementation document with attachments (the resumes for the U.S. and foreign project directors only and the Participants Statistics Page), the “Executive Summary,” and “Proposal Narrative,” sections of the proposal as e-mail attachments in Microsoft Word (preferred) or WordPerfect files to the following e-mail address: partnerships@pd.state.gov. In the e-mail message subject line, include the following: ECA/A/S/U-04-03 and the country or countries of the foreign partner(s) together with the names of the U.S. and foreign partner institutions. To reduce the time needed to obtain advisory comments from the Public Affairs Sections of U.S. Embassies overseas and Fulbright Commissions, the Bureau will transmit these files electronically to these offices.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

Adherence to All Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR 6Z, including the oversight of Responsible Officers and Alternate Responsible Officers, screening and selection of program participants, provision of pre-arrival information and orientation to participants, monitoring of participants, proper maintenance and security of forms, record-keeping, reporting, and other requirements.

The Grantee will be responsible for issuing DS-2019 forms to participants in this program. A copy of the complete regulations governing the administration of Exchange Visitor (J) programs is available at http://exchanges.state.gov or from: United States Department of State, Office of Exchange Coordination and Designation, ECA/EC/ECD-SA-44, Room 734, 301 4th Street, SW., Washington, DC 20547, Telephone: (202) 401-9810, FAX: (202) 401-9809.

Review Process

The Bureau will acknowledge receipt of all proposals and will review them for technical eligibility. All eligible proposals will be evaluated by independent external reviewers. These reviewers, who will be professional, scholarly, or educational experts with appropriate regional and thematic knowledge, will provide recommendations and assessments for consideration by the Bureau. The Bureau will consider for funding only those proposals which are recommended for funding by the independent external reviewers.

Proposals may be reviewed by the Office of the Legal Advisor or by other offices of the U.S. Department of State. In addition, U.S. Embassy or binational Fulbright Commission officers may provide advisory comment. Final funding decisions are at the discretion of the Department of State's Assistant Secretary for Educational and Cultural Affairs. Proposals must also be approved by the J. William Fulbright Foreign Scholarship Board. Final technical authority for assistance awards (grants or cooperative agreements) will reside with the Bureau's grants officer.

Proposals will be deemed ineligible if they do not fully adhere to the guidelines stated herein and in the Solicitation Package.

Review Criteria

All reviewers will use the criteria below to reach funding recommendations and decisions. Technically eligible applications will be reviewed competitively according to these criteria, which are not rank-ordered or weighted.

(1) Broad and Enduring Significance of Institutional Objectives: Project objectives should have significant and ongoing impact on the participating institutions and their surrounding societies, communities, or countries by providing a deepened understanding of critical issues in one or more of the eligible fields. Project objectives should relate clearly to institutional and societal needs as well as to U.S. foreign policy goals.

(2) Feasibility and Effectiveness of Strategy to Achieve Project Objectives: Strategies to achieve project objectives should be feasible and realistic within the projected budget and timeframe. Proposals should contain detailed information on specific exchange activities and outline the methodology and timeframe for achieving project goals.

(3) Institutional Commitment to Cooperation: Proposals should demonstrate significant understanding by each institution of its own needs and capacities and of the needs and capacities of its proposed partner(s), together with a strong commitment by the partner institutions, during and after the period of grant activity, to cooperate with one another in the mutual pursuit of institutional objectives.

(4) Project Evaluation: Proposals should describe a methodology for determining the degree to which a project meets its objectives, both while the project is underway and at its conclusion. The final project evaluation should include an external component and should provide observations about the project's influence within the participating institutions as well as their surrounding communities or societies.

(5) Cost-effectiveness: Administrative and program costs should be reasonable and appropriate with cost-sharing provided by all participating institutions within the context of their respective capacities. The Bureau views cost-sharing as a reflection of institutional commitment to the project. Contributions should not be limited to indirect costs.

(6) Support of Diversity: Proposals should demonstrate substantive support of the Bureau's policy on diversity by explaining how issues of diversity are included in project objectives for all institutional partners. Issues resulting from differences of race, ethnicity, gender, religion, geography, socio-economic status, or physical challenge should be addressed during project implementation. In addition, project participants and administrators should reflect the diversity within the societies, which they represent (see the section of this document on “Diversity, Freedom, and Democracy Guidelines”). Proposals should also discuss how the various institutional partners approach diversity issues in their respective communities or societies.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding for Balkan countries eligible in FY 2004 has previously been provided through SEED legislation. The President's budget request for Educational and Cultural Exchanges for Fiscal Year 2004 includes funding for this purpose.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: August 13, 2003.
Patricia S. Harrison,
Assistant Secretary for Educational and Cultural Affairs, Department of State.

[FR Doc. 03-21435 Filed 8-20-03; 8:45 am]

BILLING CODE 4710-05-P